DEPARTMENT OF JUSTICE

Federal Bureau of Investigation

Criminal Justice Information Services (CJIS) Division; Agency Information Collection Activities; Proposed Collection; Comment Request

ACTION: Notice of information collection under review: monthly return of arson offenses known to law enforcement.

The proposed information collection is published to obtain comments from the public until June 28, 2002.

Request written comments and suggestions from the public and affected agencies concerning the proposed collection of information. Comments should address one or more of the following four points:

(1) Evaluate whether for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques of other forms of information technology, e.g., permitting electronic submission of responses.

Comments and/or suggestions regarding the item(s) contained in this notice, especially regarding the estimated public burden and associated response time, should be directed to Gregory E. Scarbro (phone number and address listed below). Additional information as well as copies of the proposed information collection instrument with instructions are available by contacting Gregory E. Scarbro, Unit Chief, telephone 304-625-4830, FBI, CJIS Division, Crime Statistics Management Unit, E-3, 1000 Custer Hollow Road, Clarksburg, WV 26306.

Overview of This Information Collection

(1) Type of information collection: Reinstatement, without change, of a previously approved collection for which approval has expired.

(2) The title of the form/collection: Monthly Return of Arson Offenses Known to Law Enforcement.

(3) The agency form number, if any, and applicable component of the department sponsoring the collection: Form: 1-725. Federal Bureau of Investigation (FBI), Department of Justice (DOJ) and Criminal Justice Information Services (CJIS).

(4) Affected public who will be asked or required to respond, as well as a brief abstract: Primary: Local and State Law Enforcement Agencies. This collection is needed to collect information on arson offenses committed throughout the United States. Data are tabulated and published in the annual Crime in the United States.

(5) An estimate of the total number of respondents and the amount of time estimated for an average respondent to reply: 16,825 agencies with 201,900 estimated annual responses (includes zero reports); and with an average completion time of 9 minutes a month per report.

(6) An estimate of the total public burden (in hours) associated with this collection: 30,285 hours annually.

If additional information is required contact: Mr. Robert B. Briggs, Clearance Officer, United States Department of Justice, Information Management and Security Staff, Justice Management Division, Suite 1600, Patrick Henry Building, 601 D Street, NW., Washington, DC 20530.

Dated: April 23, 2002.
Robert B. Briggs,
Department Clearance Officer, United States Department of Justice

[FR Doc. 02-10374 Filed 4-26-02; 8:45 am]

BILLING CODE 4410-02-M